DEPARTMENT OF THE INTERIOR

Fish and Wildlife Service

[Docket No. FWS-HQ-IA-2024-0033; FXIA16710900000-267-FF09A10000267]

Conference of the Parties to the Convention on International Trade in Endangered Species of Wild Fauna and Flora (CITES); Twentieth Regular Meeting; Tentative U.S. Negotiating Positions for Agenda Items and Species Proposals Submitted by Foreign Governments, the Permanent CITES Committees, and the CITES Secretariat

AGENCY: Fish and Wildlife Service, Interior.

ACTION: Notice.

SUMMARY: The United States, as a party to the Convention on International Trade in Endangered Species of Wild Fauna and Flora (CITES), will attend the twentieth regular conference of the parties to CITES (CoP20) in Samarkand, Uzbekistan, from November 24-December 5, 2025. This notice announces the availability of tentative U.S. negotiating positions on proposed resolutions, decisions, and amendments to the CITES appendices (species proposals), as well as other agenda items that have been submitted by other parties, the permanent CITES committees, and the CITES Secretariat for consideration at CoP20. With this notice, the U.S. Fish and Wildlife Service (FWS, we) announces that it will publish a summary of the U.S. proposed negotiating positions and supporting rationales no later than November 18, 2025, at https://www.fws.gov/international-affairs/cites/cop20.

ADDRESSES: Information on tentative U.S. negotiating positions on amendments to the CITES appendices (species proposals), draft resolutions and decisions, and agenda items submitted by other countries, the permanent CITES committees, and the CITES Secretariat for consideration at CoP20 will be available on our website, https://www.fws.gov/international-affairs/cites/cop20, on or before November 18, 2025, and electronically using the Federal eRulemaking Portal: http://www.regulations.gov in Docket No. FWS-HQ-IA-2024-0033.

FOR FURTHER INFORMATION CONTACT: For information pertaining to resolutions, decisions, and other agenda items, contact: Naimah Aziz, Chief, Division of Management Authority; telephone 703-358-2095 (telephone); 703-358-2276 (fax) or managementauthority@fws.gov (email). For information pertaining to species proposals, contact: Thomas E. Leuteritz, Acting Chief, Division of Scientific Authority, at 703-358-1708 (telephone); 703-358-2276 (fax); or scientificauthority@fws.gov (email).

SUPPLEMENTARY INFORMATION:

Background

CITES is an international treaty designed to control and regulate international trade in certain animal and plant species that are or may be affected by trade and are now, or potentially may become, threatened with extinction. These species are included in appendices to CITES, which can be found on the CITES Secretariat's website at https://cites.org/eng/app/appendices.php.

Currently there are 185 parties to CITES—184 countries, including the United States, and one regional economic integration organization, the European Union. CITES calls for regular biennial conferences of the parties, unless a conference decides otherwise. At these conferences, the parties review the implementation of CITES, make provisions enabling the CITES Secretariat in Switzerland to carry out its functions, consider amendments to the list of species in appendices I and II, consider reports presented by the Secretariat and the permanent CITES committees (Standing, Animals, and Plants Committees), and make recommendations to improve the effectiveness of CITES. Any country that is a party to CITES may propose amendments to appendices I and II, as well as resolutions, decisions, and agenda items for consideration by all the parties at the meetings.

This is our fourth and final in a series of Federal Register notices on the development of U.S. submissions and tentative negotiating positions for CoP20. In this notice, we announce the availability of tentative U.S. negotiating positions on species proposals, draft resolutions and decisions, and agenda items submitted by other parties, the permanent CITES committees, and the Secretariat for consideration at CoP20.

We published our first CoP20-related Federal Register notice on March 22, 2024 (89 FR 20489), in which we requested information and recommendations on animal and plant species proposals and proposed resolutions, decisions, and agenda items for the United States to consider submitting for consideration at CoP20. We published our second CoP20-related Federal Register notice on December 26, 2024 (89 FR 105074); where we responded to recommendations received from the public concerning proposed amendments to the CITES appendices (species proposals) and proposed resolutions, decisions, and agenda items that the United States might submit for consideration at CoP20; invited your comments and information on these potential proposals and working documents; and provided information on how U.S. nongovernmental organizations can attend CoP20 as observers. In our third CoP20-related Federal Register notice, published on August 18, 2025 (90 FR 40075), we announced the provisional agenda for CoP20, solicited comments on the items on the provisional agenda, and announced a public meeting on September 10, 2025.

A link to the complete list of those Federal Register notices, along with information on U.S. preparations for CoP20, can be found at https://www.fws.gov/international-affairs/cites/cop20. The notices and public comments received can be viewed at http://www.regulations.gov in Docket No. FWS-HQ-IA-2024-0033.

Our regulations governing this public process are found in title 50 of the Code of Federal Regulations (CFR) at 50 CFR 23.87. Pursuant to 50 CFR 23.87(a)(3)(iii), with this notice we are announcing that on or before November 18, 2025, we will post on http://www.regulations.gov (see Docket No. FWS-HQ-IA-2024-0033) and on our website (https://www.fws.gov/international-affairs/cites/cop20) a summary of the U.S. tentative negotiating positions on the items included on the CoP20 agenda and proposed amendments to the appendices, and the reasons for our tentative positions.

Announcement of Provisional Agenda for CoP20

The provisional agenda for CoP20 and the working documents associated with the items on the provisional agenda, including proposed resolutions, proposed decisions, and discussion documents are available and can be accessed on the CITES Secretariat's website at https://cites.org/eng/cop/20/agenda-documents. The species proposals that will be considered at CoP20 are also available on the Secretariat's website. Proposals for amendment of appendices I and II can be accessed at https://cites.org/eng/cop/20/amendment-proposals.

Tentative Negotiating Positions

On or before November 18, 2025, we will post on http://www.regulations.gov (see Docket No. FWS-HQ-IA-2024-0033) and on our website (https://www.fws.gov/international-affairs/cites/cop20) a summary of the U.S. tentative negotiating positions, with supporting rationales, on the items included on the CoP20 agenda and proposed amendments to the appendices.

Documents submitted by the United States either alone or as a co-proponent for consideration at CoP20 can be found on the Secretariat's website at: https://cites.org/eng/meetings/cop. Those documents are: Documents CoP20 Docs. 64.3 (co-sponsored by Nigeria), 67.2 (co-sponsored by Mexico and the United Kingdom of Great Britain and Northern Ireland), 90, and 105.2. The United States also submitted or co-sponsored the following proposals: CoP20 Props. 7, 8 (co-sponsored by Mexico), 17 (co-sponsored by Canada), and 40. We will not provide any additional explanation of the U.S. negotiating positions for documents and proposals that the United States submitted or co-sponsored. The introduction in the text of each of those documents includes a discussion of the background of the issue and the rationale for submitting the document.

New information that may become available prior to or at CoP20 could lead to modifications of tentative U.S. positions. The U.S. delegation will disclose changes in our negotiating positions and the explanations for those changes during public briefings at CoP20. Species proposals are considered pursuant to 50 CFR 23.89. The United States is concerned about the budgetary implications and workload burden that will be placed upon the parties, the committees, and the Secretariat, and intends to evaluate all proposed resolutions, decisions, and other agenda items for CoP20 in view of these concerns.

Available Information on CoP20

Information concerning the outcomes of CoP20 will be available after the close of the meeting on the Secretariat's website at http://www.cites.org, or upon request from the Division of Management Authority (see FOR FURTHER INFORMATION CONTACT, above), or on our website https://www.fws.gov/international-affairs/cites/cop20).

Author

The primary author of this notice is Robin Sawyer, Division of Scientific Authority, U.S. Fish and Wildlife Service.

Authority

The authority for this action is the Endangered Species Act of 1973, as amended (16 U.S.C. 1531 et seq.).

Brian Nesvik,
Director, U.S. Fish and Wildlife Service.

[FR Doc. 2025-20364 Filed 11-19-25; 8:45 am]

BILLING CODE 4333-15-P